NUCLEAR REGULATORY COMMISSION

[NRC-2018-0089]

Acceptance Sampling Procedures for Exempted and Generally Licensed Items Containing Byproduct Material

AGENCY: Nuclear Regulatory Commission.

ACTION: Regulatory guide; withdrawal.

SUMMARY: The U.S. Nuclear Regulatory Commission (NRC) is withdrawing Regulatory Guide (RG) 6.6, “Acceptance Sampling Procedures for Exempted and Generally Licensed Items Containing Byproduct Material.” RG 6.6 is being withdrawn because the NRC amended its regulations regarding acceptance sampling procedures for exempted and generally licensed items containing byproduct material.

DATES: The effective date of the withdrawal of RG 6.6 is May 7, 2018.

ADDRESSES: Please refer to Docket ID NRC-2018-0089 when contacting the NRC about the availability of information regarding this document. You may obtain publicly-available information related to this document using any of the following methods:

• Federal Rulemaking website: Go to http://www.regulations.gov and search for Docket ID NRC-2018-0089. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The basis for withdrawal is located at ADAMS Accession No. ML18057A304.

• NRC's PDR: You may examine and purchase copies of public documents at the NRC's PDR, Room O1-F21, One White Flint North, 11555 Rockville Pike, Rockville, Maryland 20852.

FOR FURTHER INFORMATION CONTACT: Harriet Karagiannis, Office of Nuclear Regulatory Research, telephone: 301-415-2493: email: Harriet.Karagiannis@nrc.gov or Richard Struckmeyer, Office of Nuclear Material Safety and Safeguards, telephone: (301) 415-5477: email: Richard.Struckmeyer@nrc.gov. Both are staff of the U.S. Nuclear Regulatory Commission, Washington, DC 20555-0001.

SUPPLEMENTARY INFORMATION:

I. Background

Regulatory Guide 6.6 was published in June 1974 to provide guidance on meeting the requirements in § 32.110 of title 10 of the Code of Federal Regulations (10 CFR). The RG 6.6 describes a prescriptive methodology for determining whether a product should be accepted or rejected based on statistical sampling methods. The NRC is withdrawing RG 6.6 because in 2012, the regulations in part 32 of 10 CFR were amended to remove § 32.110 of 10 CFR (77 FR 43673; July 25, 2012). The amendment occurred because the Commission determined that the requirements for manufacturers or initial distributors of exempt and generally licensed products were in some cases overly prescriptive, particularly in the areas of prototype testing and acceptance sampling/quality control procedures. The new rule was intended to focus the regulations on performance rather than procedures. Therefore, the guidance contained in RG 6.6 became obsolete and RG 6.6 needs to be withdrawn.

II. General Considerations

The NRC is withdrawing RG 6.6 because it is no longer needed. Withdrawal of an RG means that the guide no longer provides useful information or has been superseded by other guidance, technological innovations, Congressional actions, or other events. The withdrawal of RG 6.6 does not alter any prior or existing NRC licensing approval or the acceptability of licensee commitments to RG 6.6. Although RG 6.6 is withdrawn, current licensees may continue to use it, and withdrawal does not affect any existing licenses or agreements. However, RG. 6.6 should not be used in future requests or applications for NRC licensing actions.

Dated at Rockville, Maryland, this 1st day of May, 2018.
For the Nuclear Regulatory Commission.
Thomas H. Boyce,
Chief, Regulatory Guidance and Generic Issues Branch, Division of Engineering, Office of Nuclear Regulatory Research.

[FR Doc. 2018-09591 Filed 5-4-18; 8:45 am]

BILLING CODE 7590-01-P